DEPARTMENT OF DEFENSE

Department of the Army

Record of Decision (ROD) for the Programmatic Environmental Impact Statement (PEIS)-Army Transformation

AGENCY: Department of the Army, DoD.

ACTION: Notice of availability.

SUMMARY: The Department of the Army announces the ROD for the PEIS for Army Transformation.

The ROD details the environmental concerns, identified in the PEIS, that may affect various aspects of Army transformation including, but not limited: unit location; materiel acquisition and testing; training areas; range requirements; and strategic deployment.

ADDRESSES: To obtain a copy of the PEIS ROD, access the Army home page at www.army.mil/a-z.htm, and scroll to Programmatic Environmental Impact Statement. The PEIS ROD has been posted at this Wed site to facilitate public access.

FOR FURTHER INFORMATION CONTACT: Mr. Jim Lucas at (703) 805-2522.

SUPPLEMENTARY INFORMATION: The Department of the Army prepared a PEIS assessing potential impacts of the Army transformation on the environment. The PEIS was prepared pursuant to the National Environmental Policy Act of 1969 and the Record of Decision has been signed.

As a result of this effort, it has been decided to proceed with a multi-year, phased, and synchronized process to transform the Army. The results of the PEIS were considered along with supporting studies and comments provided during the formal comment and review periods. Based on this review, it was determined that the preferred alternative reflects the proper balance between initiatives for protection of the environment, appropriate mitigation, and actions to achieve the Army Vision. The Army has identified and shall adopt and implement a variety of measures to avoid or minimize harm to the environment that may be caused by implementation of the proposed action.

Project- and site-specific proposals for transformation actions and activities will be appropriately evaluated for their potential environmental effects. Future planning for and initiating actions to accomplish transformation shall be subject to appropriate evaluation pursuant to the National Environmental Policy Act and other requirements.

Dated: June 21, 2002.
Raymond J. Fatz,
Deputy Assistant Secretary of the Army, (Environment, Safety and Occupational Health), OASA(I&E).

[FR Doc. 02-16647 Filed 7-1-02; 8:45 am]

BILLING CODE 3710-08-M